DEPARTMENT OF COMMERCE

National Oceanic and Atmospheric Administration

RIN 0648-XH104

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Bluefish Fishery Management Action Team (FMAT) will hold a public meeting.

DATES: The meeting will be held on Monday, August 12, 2019, from 9 a.m. to 11:30 a.m.

ADDRESSES: The meeting will be held via webinar with an audio-only connection option. Details on the proposed agenda, connection information, and briefing materials will be posted at the MAFMC's website: www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The purpose of the meeting is for the FMAT to discuss draft alternatives based on the scoping comments and recreational/commercial data for sector-based allocations, commercial allocations to the states, the transfer processes, and the Fishery Management Plan goals and objectives. An agenda and background documents will be posted to the Council's website (www.mafmc.org) prior to the meeting.

Special Accommodations

The meeting is physically accessible to people with disabilities. Requests for sign language interpretation or other auxiliary aid should be directed to M. Jan Saunders, (302) 526-5251, at least 5 days prior to the meeting date.

Authority: 16 U.S.C. 1801 et seq.

Dated: July 16, 2019.
Tracey L. Thompson,
Acting Deputy Director, Office of Sustainable Fisheries, National Marine Fisheries Service.

[FR Doc. 2019-15422 Filed 7-18-19; 8:45 am]

BILLING CODE 3510-22-P